DEPARTMENT OF HEALTH AND HUMAN SERVICES

Office of the Secretary

Public Meeting To Solicit Input for a Strategic Plan for Federal Youth Policy

AGENCY: Office of the Assistant Secretary for Planning and Evaluation, DHHS.

ACTION: Notice of meeting.

SUMMARY: The U.S. Department of Health and Human Services, in its role as the Chair of the Interagency Working Group on Youth Programs, is announcing a meeting to solicit input from the public that will inform the development of a strategic plan for federal youth policy.

DATES: October 19, 2010, from 9 a.m.-1 p.m.

ADDRESSES: The meeting will take place at the Henry M. Jackson Building at 915 Second Avenue, Seattle, WA 98174-1009.

FOR FURTHER INFORMATION: Visit the Web site for the Interagency Working Group on Youth Programs at http://www.FindYouthInfo.gov for information on how to register, or contact the Interagency Working Group on Youth Programs help desk, by telephone at 1-877-231-7843 [Note: this is a toll-free telephone number], or by e-mail at FindYouthInfo@air.org.

SUPPLEMENTARY INFORMATION:

I. Background

On March 11, 2009, the Congress passed the Omnibus Appropriations Act, 2009 (Pub. L. 111-8). The House Appropriations Committee Print, Division F—Departments of Labor, Health and Human Services, and Education, and Related Agencies Appropriations included language directing the Interagency Working Group on Youth Programs to solicit input from young people, State children's cabinet directors, and non-profit organizations on youth programs and policies; develop an overarching strategic plan for Federal youth policy; and prepare recommendations to improve the coordination, effectiveness, and efficiency of programs affecting youth.

The Interagency Working Group on Youth Programs is comprised of staff from twelve Federal agencies that support programs and services that focus on youth: the U.S. Department of Agriculture; U.S. Department of Commerce; U.S. Department of Defense; U.S. Department of Education; U.S. Department of Health and Human Services (Chair); U.S. Department of Housing and Urban Development; U.S. Department of Justice (Vice-Chair); U.S. Department of Labor; U.S. Department of the Interior; U.S. Department of Transportation; Corporation for National and Community Service; and Office of National Drug Control Policy.

The Working Group seeks to promote achievement of positive results for at-risk youth through the following activities:

• Promoting enhanced collaboration at the Federal, state, and local levels, including with faith-based and other community organizations, as well as among families, schools and communities, in order to leverage existing resources and improve outcomes;

• Disseminating information about critical resources, including evidence-based programs, to assist interested citizens and decisionmakers, particularly at the community level, to plan, implement, and participate in effective strategies for at-risk youth;

• Developing an overarching strategic plan for federal youth policy, as well as recommendations for improving the coordination, effectiveness and efficiency of youth programs, using input from community stakeholders, including youth; and

• Producing a Federal Web site, FindYouthInfo.gov, to promote effective community-based efforts to reduce the factors that put youth at risk and to provide high-quality services to at-risk youth.

II. Registration, Security, Building, and Parking Guidelines

For security purposes, members of the public who wish to attend the meeting must pre-register on-line at http://www.findyouthinfo.gov no later than October 12, 2010. Should problems arise with Web registration, call the help desk at 1-877-231-7843 or send a request to register for the meeting to FindYouthInfo@air.org. To register, complete the online registration form, which will ask for your name, title, organization or other affiliation, full address and phone, fax, and e-mail information or e-mail this information to FindYouthInfo@air.org. Additional identification documents may be required. The meetings are held in a Federal government building; therefore, Federal security measures are applicable. In planning your arrival time, we recommend allowing additional time to clear security. Space is limited. In order to gain access to the building and grounds, participants must bring government-issued photo identification as well as their pre-registration confirmation.

Authority: Division F, Pub. L. 111-8; E.O. 13459, 73 FR 8003, February 12, 2008.

Dated: September 30, 2010.
Sherry Glied,
Assistant Secretary for Planning and Evaluation.

[FR Doc. 2010-25342 Filed 10-7-10; 8:45 am]

BILLING CODE 4154-05-P